DEPARTMENT OF AGRICULTURE

Forest Service

Green Mountain National Forest; Vermont; Deerfield Wind Project

AGENCY: Forest Service, USDA.

ACTION: Notice of intent to prepare an environmental impact statement.

SUMMARY: The Forest Service has accepted an application for a special use authorization from Deerfield Wind, LLC for the installation and operation of 20 to 30 wind turbines on National Forest System (NFS) lands managed by Green Mountain National Forest (GMNF). The project would utilize approximately 80 acres of National Forest land within the Manchester District.

DATES: Comments concerning the scope of the analysis must be received by August 15, 2005. The draft environmental impact statement is expected in August 2005 and the final environmental impact statement is expected February 2007.

ADDRESSES: Send written comments to Gina Owens, District Ranger, Manchester Ranger District, USDA Forest Service, 2538 Depot Street, Manchester Center, VT 05255.

FOR FURTHER INFORMATION CONTACT: Bob Bayer, Project Coordinator, Manchester Ranger District, USDA Forest Service, 2538 Depot Street, Manchester Center, VT 05255; 802-362-2307 ext. 218; e-mail: rbayer@fs.fed.us

SUPPLEMENTARY INFORMATION:

Purposed and Need for Action

The purpose of the proposed action is to provide between 30 and 45 megawatts (MW) of new wind energy and capacity by expanding the existing private land based wind power facility in Searsburg, Vermont onto National Forest System (NFS) lands. The new capacity will supply additional renewable power to the Vermont and New England electric supply grid. The use and occupancy of federal lands is an important element in facilitating the exploration, development, and transmission of affordable, renewable and reliable energy in the region to meet the purpose.

The projected project is needed to:

1. Contribute to Vermont's and the region's growing demand for reliable sources of clean, cost-effective, renewable energy generated electricity.

2. Contribute to a secure, reliable supply of electric generating capacity to address the regional and local need.

3. Reduce the region's over-dependence on natural gas generation, thereby decreasing electric price volatility and providing potential cost savings to consumers.

4. Reduce air emissions, and the associated negative environmental and human health effects, produced by fossil fuel-fired electric generation, thereby improving local and regional air quality.

Proposed Action

The Deerfield Wind Project is proposed on two separate ridge lines east and west of Vermont Route 8. Approximately half of the 20 to 30 new state-of-the-art turbines would be placed on the east side on Route 8 on the same ridgeline as the existing Green Mountain Power Corporation (GMP) Searsburg Wind Farm, which was placed in service in 1997 on 35 acres of private lands adjacent to GMNF land. It consists of eleven, 0.55 megawatt (MW) (550 kilowatts (kW)) wind turbines, each just under 200 feet in height, that together are capable of producing 6 MW of electricity. Ten to fifteen new 1.5 to 2.0 MW (1,500 to 2,000 kW) turbines would be placed adjacent to the existing wind turbines on the east ridge (eastern project area). The remaining ten to fifteen turbines would be placed along the ridgeline to the west of Route 8 (western project area). The wind turbines would be capable of producing 30 to 45 MW of electricity. Each wind turbine consists of a tubular steel tower, a nacelle (which houses the turbine's mechanical components), and a three-bladed rotor. Total height of the wind turbine is expected to be approximately 340 to 370 feet. Along with the turbines, the project will include a storage and maintenance building that will be approximately 24 feet by 40 feet in dimension, approximately 4 miles of gravel access road, and approximately 4 miles of underground and overhead electrical lines. These lines will connect a new substation constructed in the northern section of the western project area on USFS lands. The new substation will be enclosed in a chain link fence and be approximately one-half acre in size and contain a transformer and other electrical equipment. An alternative interconnection point for electric lines would be an existing GMP substation on private land on the east side of Route 8. Construction of the proposed project would require clearing of up to 80 acres of National Forest land. The Forest Service has determined that an environmental impact statement (EIS) is required to fully and effectively evaluate this site-specific application.

Responsible Official

Paul Brewster, Forest Supervisor, Green Mountain and Finger Lakes National Forests, 231 North Main Street, Rutland, VT 05071-2417.

Nature of Decision To Be Made

Deerfield Wind LLC has made application to the Forest Service for a Special Use Authorization seeking authorization to occupy and use NSF lands for the purpose of constructing and operating a wind power facility on the Green Mountain National Forest. The decision to be made is whether to grant the authorization for the construction and operation activities as proposed, or as modified by an alternative to the proposed activities, or to defer granting of the authorization.

Scoping Process

The GMNF plans to scope for information by contacting persons and organizations interested or potentially affected by the proposed action by using mailings, public announcements, and personal contacts. In addition, two separate public scoping meetings will be held to collect public input on the scope of the EIS:

Scoping Meeting #1: August 3, 2005, Grand Summit Resort Hotel, Mount Snow, 12 Pisgah Road, West Dover, VT. An open house format will be used. The public is welcome between 7 p.m. and 9 p.m.

Scoping Meeting #2: August 4, 2005, Whitingham Elementary School, Route 100 South, Jacksonville, VT. An open house format will be used. The public is welcome between 7 p.m. and 9 p.m.

Comments Requested

This notice of intent initiates the scoping process which guides the development of the environmental impact statement. The primary purpose is to gather public comments, issues, and concerns regarding the proposed action. Comments, issues and concerns will be used to help formulate alternatives to the proposed action. Please make your written comments as specific as possible as they relate to the proposed action, and include your name, address, and, if possible, telephone number and e-mail address. Comments received in response to this solicitation, including the names and addresses of those who comment, will be considered part of the public record and will be available for public inspection. Comments submitted anonymously will be accepted and considered. Additionally, pursuant to 7 CFR 1.27(d), any person may request that a submission be withheld from the public record by showing how the Freedom of Information Act permits such confidentiality. Persons requesting such confidentiality should be aware that confidentiality is granted in only very limited circumstances. The Forest Service will inform the requester of its decision regarding a request for confidentiality. Where the request is denied, the submission will be returned, and the requester notified that the comments may be resubmitted with or without name and address.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, written comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: July 8, 2005.
Paul K. Brewster,
Forest Supervisor.

[FR Doc. 05-13847 Filed 7-14-05; 8:45 am]

BILLING CODE 3410-11-M